DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and removed from the list of Specially Designated Nationals and Blocked Persons.

DATES: See Supplementary Information section.

FOR FURTHER INFORMATION CONTACT: OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On February 14, 2018, OFAC determined that the property and interests in property of the following persons are unblocked and removed from the SDN List under the relevant sanctions authority listed below.

Individuals

1. JIMENEZ URREGO, Jorge Enrique, Bogota, Colombia; DOB 13 Jan 1957; citizen Colombia; Cedula No. 73073242 (Colombia); Passport AK353217 (Colombia); alt. Passport AJ096613 (Colombia) (individual) [SDNTK].

2. YOUSSEF, Ziad Mohamad, Lebanon; DOB 22 Sep 1976; POB West Bekaa, Baaloul, Lebanon; nationality Lebanon; citizen Lebanon (individual) [SDNTK].

3. YOUSSEF, Ismael Mohammed (a.k.a. YOUSSEF ABDALLAH, Ismael; a.k.a. YOUSSEF, Ismail Mohammad), Lebanon; DOB 12 Sep 1979; POB Santa Marta, Colombia; alt. POB Lebanon; nationality Colombia; alt. nationality Lebanon; citizen Colombia; Cedula No. 17900973 (Colombia); Passport AF038564 (Colombia); alt. Passport AK037837 (Colombia) (individual) [SDNTK].

4. BALLEN SOLANO, Manuel Humberto, Bogota, Colombia; DOB 22 Sep 1956; citizen Colombia; Cedula No. 19295921 (Colombia) (individual) [SDNTK].

5. JIMENEZ URREGO, Carmen Rosa, c/o FIMESA DE COLOMBIA S.A., Bogota, Colombia; c/o C.I. STONES AND BYPRODUCTS TRADING S.A., Bogota, Colombia; c/o PROMOTORA DE MATERIAS PRIMAS ORGANICAS DEL TOLIMA LTDA, Bogota, Colombia; DOB 23 Aug 1965; citizen Colombia; Cedula No. 51788462 (Colombia); Passport AI822940 (Colombia) (individual) [SDNTK].

6. GRAJALES LONDONO, Lina Maria, c/o AGRONILO S.A., Toro, Valle, Colombia; c/o HEBRON S.A., Tulua, Valle, Colombia; c/o HOTEL LOS VINEDOS, La Union, Valle, Colombia; c/o JOSAFAT S.A., Tulua, Valle, Colombia; c/o SALIM S.A., La Union, Valle, Colombia; c/o CITICAR LTDA., La Union, Valle, Colombia; c/o CONFECCIONES LINA MARIA LTDA., La Union, Valle, Colombia; c/o DOXA S.A., La Union, Valle, Colombia; c/o GBS TRADING S.A., Cali, Colombia; c/o L.G.R. E.U., Cali, Colombia; DOB 13 Mar 1979; POB Bogota, Colombia; Cedula No. 29567575 (Colombia) (individual) [SDNT].

7. CASTRO MONTOTO, Norman Douglas; DOB 06 Jul 1962; citizen Panama; Passport 1871296 (Panama) (individual) [SDNTK] (Linked To: WAKED MONEY LAUNDERING ORGANIZATION).

8. BEDOYA VELEZ, Jose Roberto, c/o TECNICAR DIAGNOSTICENTRO S.A., Envigado, Colombia; Carrera 28 No. 16-85, Casa 12, Medellin, Antioquia, Colombia; DOB 10 Oct 1960; POB Medellin, Antioquia, Colombia; nationality Colombia; citizen Colombia; Cedula No. 15256905 (Colombia); Passport AI406455 (Colombia) (individual) [SDNT].

9. PADRO PASTOR, Alvaro; DOB 09 Nov 1975; nationality Spain; R.F.C. PAPA751109870 (Mexico); C.U.R.P. PAPA751109HNEDSL04 (Mexico) (individual) [SDNTK] (Linked To: CASA V; Linked To: PISCILANEA, S.A. DE C.V.).

10. SANCHEZ GONZALEZ, Ruben, Av. Arcos 960, Colonia Jardines del Bosque, Guadalajara, Jalisco, Mexico; DOB 14 Jul 1964; POB Tepatitlan de Morelos, Jalisco, Mexico; R.F.C. SAGR640714-882 (Mexico); C.U.R.P. SAGR640714HJCNNB02 (Mexico) (individual) [SDNTK] (Linked To: GRUPO FRACSA, S.A. DE C.V.; Linked To: DBARDI, S.A. DE C.V.; Linked To: PISCILANEA, S.A. DE C.V.; Linked To: CARIATIDE GRUPO INMOBILIARIO, S.A. DE C.V.).

Entities

1. ZONA LIBRE INTERNATIONAL MARKET S.A., Colon, Panama; RUC # 66161-20-363386 (Panama) [SDNTK].

2. C.I. STONES AND BYPRODUCTS TRADING S.A., Transversal 14 No. 119-67 Interior 4, Bogota, Colombia; NIT # 830003485-3 (Colombia) [SDNTK].

3. FIMESA DE COLOMBIA S.A., Transversal 14 No. 119-67 Interior 4, Oficina 203, Bogota, Colombia; NIT # 830129115-5 (Colombia) [SDNTK].

4. PROMOTORA DE MATERIAS PRIMAS ORGANICAS DEL TOLIMA LTDA (a.k.a. PROMATOL LTDA), Calle 24 D Bis No. 73C-03, Bogota, Colombia; NIT # 900081489-9 (Colombia) [SDNTK].

5. CARIATIDE GRUPO INMOBILIARIO, S.A. DE C.V., Av. Vallarta No. 3216, Col. Vallarta San Jorge, Guadalajara, Jalisco 44690, Mexico; R.F.C. CGI0501197ST (Mexico) [SDNTK].

6. CASA V, Av. Vallarta 1339, Colonia Americana, Guadalajara, Jalisco, Mexico [SDNTK].

7. PISCILANEA, S.A. DE C.V. (a.k.a. ALBERCAS E HIDROMASAJE PISCILANEA; a.k.a. ALBERCAS Y TINAS BARCELONA), Provenza Center, Av. Lopez Mateos No. 5565, Loc 23, Col. Santa Anita, Tlajomulco de Zuniga, Jalisco 45645, Mexico; R.F.C. PIS090915KS1 (Mexico) [SDNTK].

Dated: February 14, 2018.
Gregory T. Gatjanis,
Associate Director, Office of Global Targeting, Office of Foreign Assets Control.

[FR Doc. 2018-03461 Filed 2-20-18; 8:45 am]

BILLING CODE 4810-AL-P